DEPARTMENT OF COMMERCE

National Oceanic and Atmospheric Administration

[I.D. 040704C]

Gulf of Mexico Fishery Management Council; Public Meeting

AGENCY: National Marine Fisheries Service (NMFS), National Oceanic and Atmospheric Administration (NOAA), Commerce.

ACTION: Notice of a public meeting.

SUMMARY: The Gulf of Mexico Fishery Management Council will convene public meetings of the Reef Fish Advisory Panel (AP)and the Standing and Special Reef Fish Scientific and Statistical Committee (SSC) on April 28-29, 2004.

DATES: The Council's Reef Fish AP and SSC will convene jointly at 10 a.m. on Wednesday, April 28, 2004 to receive presentations and will meet separately on Thursday, April 29, 2004 for discussions on the presentations beginning at 8:30 a.m. and will conclude by 5 p.m.

ADDRESSES: The meetings will be held at the Wyndham Westshore Hotel, 4860 West Kennedy Boulevard, Tampa, FL; telephone: (813) 286-4400.

Council address: Gulf of Mexico Fishery Management Council, 3018 U.S. Highway 301 North, Suite 1000, Tampa, FL 33619.

FOR FURTHER INFORMATION CONTACT: Mr. Steven Atran, Population Dynamics Statistician, or Mr. Stu Kennedy, Biologist, Gulf of Mexico Fishery Management Council; telephone: (813) 228-2815.

SUPPLEMENTARY INFORMATION: The AP and SSC will meet jointly on Wednesday, April 28 to receive a presentation on the Public Hearing Draft for Amendment 23 of the Reef Fish Fishery Management Plan to set vermilion snapper Sustainable Fisheries Act targets and thresholds and to establish a plan to end overfishing and rebuild the stock. NOAA Fisheries notified the Council on October 30, 2003 that the vermilion snapper stock is overfished and undergoing overfishing. The Council has until October, 2004 to submit a plan to rebuild the vermilion snapper stock to NOAA Fisheries. Draft Amendment 23 develops a rebuilding plan that is in compliance by establishing status determination criteria (minimum stock size threshold, maximum fishing mortality rate, maximum sustainable yield, and optimum yield) and contains alternatives for a rebuilding strategy and harvest reductions that will restore the vermilion snapper stock within ten years, the time frame allowed under Sustainable Fisheries Act.

The AP and SSC will also receive presentations on the Southeast Data and Review (SEDAR) reports for hogfish and goliath grouper. These reports provide independent review of the scientific information and stock assessments critical to management of species within the Council's jurisdiction and form the basis for future management actions.

On Thursday April 29, the AP and SSC will convene separately to discuss Draft Reef Fish Amendment 23 and the SEDAR reports. The AP and SSC will be asked to review the draft plan and provide recommendations to the Council as to the appropriateness of the preferred alternatives. The SSC will also be asked to evaluate the scientific validity of the biological and economic analyses in the plan. Additionally, the AP and SSC will be asked to review the two SEDAR reports and provide recommendations to the Council on the validity of the conclusions of those reports and future directions.

The recommendations of the AP and SSC will be presented to the Gulf Council at its May 17-20, 2004 meeting in Key Largo, FL. At that meeting, the Council will review and revise as appropriate the Final Public Hearing Draft of Amendment 23, the public hearings will be held in June and the Council will make their final decisions on preferred alternatives at the July, 12-15 meeting in Houston, TX.

Copies of the Draft Reef Fish Amendment 23 and the two SEDAR reports can be obtained by calling the Council office at 813-228-2815 (toll-free 888-833-1844).

Although other non-emergency issues not on the agendas may come before the AP and SSC for discussion, in accordance with the Magnuson-Stevens Fishery Conservation and Management Act, those issues may not be the subject of formal action during these meetings. Actions of the AP and SSC will be restricted to those issues specifically identified in the agendas and any issues arising after publication of this notice that require emergency action under Section 305(c) of the Magnuson-Stevens Act, provided the public has been notified of the Council's intent to take action to address the emergency. The established times for addressing items on the agenda may be adjusted as necessary to accommodate the untimely completion of discussion relevant to other agenda items. In order to further allow for such adjustments and completion of all items on the agenda, the meeting may be extended from or completed prior to the date established in this notice.

Special Accommodations

These meetings are physically accessible to people with disabilities. Requests for sign language interpretation or other auxiliary aids should be directed to Trish Kennedy at the Council (see ADDRESSES) by April 21, 2004.

Dated: April 8, 2004.
Alan D. Risenhoover,
Acting Director, Office of Sustainable Fisheries, National Marine Fisheries Service.

[FR Doc. E4-832 Filed 4-13-04; 8:45 am]

BILLING CODE 3510-22-S